DEPARTMENT OF HEALTH AND HUMAN SERVICES

Centers for Disease Control and Prevention

Advisory Committee to the Director (ACD), Centers for Disease Control (CDC) and Prevention—Ethics Subcommittee (ES); Correction

AGENCY: Centers for Disease Control and Prevention (CDC), HHS.

ACTION: Notice of meeting; meeting time correction.

SUMMARY: A notice was published in the Federal Register on January 29, 2010, Volume 75, Number 19, Pages 4830-4831, announcing a meeting of the Advisory Committee to the Director on February 18, 2010. The time published for the aforementioned meeting is incorrect and has been changed to 1 p.m.-5 p.m.

DATES: The time of the February 18, 2010, meeting published at 75 FR 4830, January 29, 2010, is 1 p.m.-5 p.m.

FOR FURTHER INFORMATION CONTACT: Drue Barrett, PhD, Designated Federal Officer, ACD, CDC-ES, 1600 Clifton Road, NE., M/S D-50, Atlanta, Georgia 30333. Telephone: (404) 639-4690. E-mail: dbarrett@cdc.gov.

The Director, Management Analysis and Services Office, has been delegated the authority to sign Federal Register notices pertaining to announcements of meetings and other committee management activities, for both CDC and the Agency for Toxic Substances and Disease Registry.

Dated: February 16, 2010.
Andre Tyler,
Acting Director, Management Analysis and Services Office,Centers for Disease Control and Prevention.

[FR Doc. 2010-3324 Filed 2-17-10; 11:15 am]

BILLING CODE 4163-18-P